DEPARTMENT OF COMMERCE

National Oceanic and Atmospheric Administration

[I.D. 070103C]

Marine Mammals; Photography Permit Application No. 997-1704

AGENCY: National Marine Fisheries Service (NMFS), National Oceanic and Atmospheric Administration (NOAA), Commerce.

ACTION: Correction.

SUMMARY: Notice is hereby given that this corrects the document published on June 26, 2003, announcing that Bob McLaughlin, P.O. Box 496, 339 Glenwood, Eastsound, Washington 98245, had applied in due form for a permit to take several species of non-listed marine mammals for purposes of commercial/educational photography.

DATES: This action is effective July 9, 2003.

ADDRESSES: The application and related documents are available for review upon written request or by appointment in the offices listed in the original document published on June 26, 2003, as well as:

Southwest Region, NMFS, 501 West Ocean Blvd., Suite 4200, Long Beach, CA 90802-4213; phone (562)980-4001; fax (562)980-4018.

FOR FURTHER INFORMATION CONTACT: Jennifer Jefferies or Ruth Johnson, (301)713-2289.

SUPPLEMENTARY INFORMATION: The last sentence of the first paragraph under SUPPLEMENTARY INFORMATION in document 68 FR 38011 is revised to read as follows, “However, in the meantime, NMFS has received and is processing this request as a “pilot” application for Level B Harrassment of non-listed marine mammals for photographic purposes.”

Dated: July 2, 2003.
Eugene T. Nitta,
Acting Chief, Permits, Conservation and Education Division, Office of Protected Resources, National Marine Fisheries Service.

[FR Doc. 03-17244 Filed 7-8-03; 8:45 am]

BILLING CODE 3510-22-S